DEPARTMENT OF ENERGY

Federal Energy Regulatory Commission

[Project No. 13968-000]

Qualified Hydro 36, LLC; Notice of Preliminary Permit Application Accepted for Filing and Soliciting Comments, Motions To Intervene, and Competing Applications

On January 3, 2011, Qualified Hydro 36, LLC filed an application, pursuant to Section 4(f) of the Federal Power Act, proposing to study the feasibility of the Kaskaskia Lock and Dam Hydroelectric Project No. 13968, to be located at the existing Kaskaskia Lock and Dam on the Kaskaskia River, near the Town of Chester, in Randolph County, Illinois. The Kaskaskia Lock and Dam is owned by the United States government and operated by the U.S. Army Corps of Engineers.

The proposed project would consist of: (1) A new 330-foot-long by 150-foot-wide by 60 foot-high reinforced concrete powerhouse; (2) a new 100-foot-long by 100-foot-wide tailrace channel; (3) a new 100-foot-long by 100-foot-wide intake structure; (4) two horizontal bulb turbines with a combined capacity of 8.0 megawatts; (5) a new 50 foot by 60 foot, 10 MVA substation adjacent to the powerhouse; (6) a new-47,500 foot-long, 34 to 69-kilovolt transmission line; and (7) appurtenant facilities. The project would have an estimated annual generation of 28.0 gigawatt-hours.

Applicant Contact: Ramya Swaminathan, 33 Commercial Street, Gloucester, MA 01930, (978) 226-1531.

FERC Contact: Tyrone A. Williams, (202) 502-6331.

Deadline for filing comments, motions to intervene, and competing applications (without notices of intent), or notices of intent to file competing applications: 60 days from the issuance date of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport.gov; call toll-free at (866) 208-3676; or, for TTY, contact (202) 502-8659. Although the Commission strongly recommends electronic filing, documents may also be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project, including a copy of the application can be viewed or printed on the “eLibrary” link of Commission's Web site at http://www.ferc.gov/docs-filing/elibrary.asp. Enter the docket number (P-13968) in the docket number field to access the document. For assistance, contact FERC Online Support.

Dated: March 4, 2011.
Kimberly D. Bose,
Secretary.

[FR Doc. 2011-5484 Filed 3-9-11; 8:45 am]

BILLING CODE 6717-01-P